Proclamation 7355 of October 6, 2000

National School Lunch Week, 2000

By the President of the United States of America

A Proclamation

One of the best ways we can move forward as a society is to meet our obligations to our children. President Harry Truman recognized this profound responsibility when he signed the National School Lunch Act into law in 1946. The significance of this legislation went beyond the daily meal that children would receive; the National School Lunch Program firmly established the Federal Government's commitment to work in partnership with States, schools, and the agricultural community to administer a major program designed to improve children's diets and, in turn, their overall health and well-being.

Today, more than 96,000 schools serve lunches to over 27 million children every day—more than half of them for free or at a reduced price, so that no schoolchild in America, regardless of family income, need go hungry at lunchtime. We have also built on the program's success by establishing a number of child nutrition initiatives administered by the Department of Agriculture—from the School Breakfast Program, which helps ensure eligible children are ready to learn; to the Summer Food Service Program, which serves healthy meals and snacks to low-income children during long school vacations; to the Child and Adult Care Food Program, which provides nutritious meals and snacks to infants and young children in day care and to adults with physical or mental disabilities who are enrolled in adult day care. Most recently, we authorized funding through the Child Nutrition Reauthorization Act of 1998 to make snacks available to children and teenagers enrolled in after-school programs.

We can be proud that these school meal programs promote the well-being of some of our Nation's most vulnerable children by providing them with the nourishment they need to develop healthy bodies and sound minds. Nutritious meals help students reach their full potential by keeping them alert and attentive in the classroom. As both common sense and extensive scientific research confirm, a hungry child cannot focus on schoolwork as well as one who has been fed a nutritious meal.

The National School Lunch Program also offers us a valuable tool for identifying children who are eligible for health insurance under Medicaid or the State Children's Health Insurance Program. Since 60 percent of children who lack adequate health coverage participate in the school lunch program, sharing eligibility information can improve our outreach efforts and bring us closer to our goal of universal health care for all of America's children. My proposed budget for fiscal 2001 sets aside $345 million over 10 years to help schools share information with Medicaid and the State Children's Health Insurance Program so that we can enhance our efforts to reach eligible children and their families. In addition, this summer I announced an initiative to expand the school lunch program to the developing world. This initiative will make school lunches and breakfasts available in the poorest countries for the poorest children, helping students whose deficiencies in nutrition affect their cognitive development and attracting children who otherwise might never attend school.

As we observe National School Lunch Week this year, let us pay tribute to the thousands of State and local school food service professionals across America whose hard work and dedication make these programs a reality for our children; and let us acknowledge the important role school lunches play in the healthy development of so many students.

In recognition of the contributions of the National School Lunch Program to the health, education, and well-being of our Nation's children, the Congress, by joint resolution of October 9, 1962 (Public Law 87-780), has designated the week beginning the second Sunday in October of each year as “National School Lunch Week” and has requested the President to issue a proclamation in observance of this week.

NOW, THEREFORE, I, WILLIAM J. CLINTON, President of the United States of America, do hereby proclaim October 8 through October 14, 2000, as National School Lunch Week. I call upon all Americans to recognize those individuals whose efforts contribute so much to the success of our national child nutrition programs, whether at the Federal, State, or local level.

IN WITNESS WHEREOF, I have hereunto set my hand this sixth day of October, in the year of our Lord two thousand, and of the Independence of the United States of America the two hundred and twenty-fifth.

wj

[FR Doc. 00-26393

Filed 10-11-00; 8:45 am]

Billing code 3195-01-P